ENVIRONMENTAL PROTECTION AGENCY

[EPA-HQ-OW-2016-0751; FRL-9959-31-OW]

Extension of Public Comment Period: Draft Human Health Recreational Ambient Water Quality Criteria and/or Swimming Advisories for Microcystins and Cylindrospermopsin

AGENCY: Environmental Protection Agency (EPA).

ACTION: Notice; extension of comment period.

SUMMARY: The Environmental Protection Agency (EPA) is extending the comment period for the Draft Human Health Recreational Ambient Water Quality Criteria and/or Swimming Advisories for Microcystins and Cylindrospermopsin. In response to stakeholder requests, the comment period will be extended for an additional 31 days, from February 17, 2017 to March 20, 2017.

DATES: Comments must be received on or before March 20, 2017.

ADDRESSES: Submit your comments, identified by Docket ID No. EPA-HQ-OW-2016-0751, to the Federal eRulemaking Portal: http://www.regulations.gov. Follow the online instructions for submitting comments. Once submitted, comments cannot be edited or withdrawn. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: John Ravenscroft, Health and Ecological Criteria Division, Office of Water (Mail Code 4304T), Environmental Protection Agency, 1200 Pennsylvania Avenue NW., Washington, DC 20460; telephone number: (202) 566-1101; email address: ravenscroft.john@epa.gov.

SUPPLEMENTARY INFORMATION: On December 19, 2016 (81 FR 91929), EPA announced the availability of the Draft Human Health Recreational Ambient Water Quality Criteria and/or Swimming Advisories for Microcystins and Cylindrospermopsin, and opened a 60-day public review and comment period. During the comment period, EPA is soliciting additional scientific views, data, and information regarding the science and technical approach used in the derivation of the draft Human Health Recreational Ambient Water Quality Criteria and/or Swimming Advisories for Microcystins and Cylindrospermopsin document. EPA is proposing that these recommended criteria, if adopted by States or authorized Tribes as CWA section 303(c) WQS, be used for CWA section 303(d) assessment and listing purposes where the magnitude is not exceeded for more than 10 percent of days during a recreational season up to one calendar year as an indicator of long-term impairment from multiple short-term blooms. EPA is soliciting public comment on this 10 percent exceedance frequency as well as alternative exceedance frequencies. For swimming advisories, EPA is proposing that these recommended values could be used to trigger public notification whenever values are exceeded for one day. EPA is soliciting public comment on this recommended single day exceedance as well as alternative exceedance frequencies.

The original deadline to submit comments was February 17, 2017. This action extends the comment period for 31 days, for a total of 91 days of public comment. Written comments must now be received by March 20, 2017. The draft report and other supporting materials may also be viewed and downloaded from EPA's Web site at https://www.epa.gov/wqc/microbial-pathogenrecreational-water-quality-criteria#swimming.

Dated: February 2, 2017.
Michael Shapiro,
Acting Assistant Administrator, Office of Water.

[FR Doc. 2017-03067 Filed 2-14-17; 8:45 am]

BILLING CODE 6560-50-P